DEPARTMENT OF ENERGY

Federal Energy Regulatory Commission

[Project No. 184-060]

El Dorado Irrigation District; Notice of Availability of Final Environmental Assessment

July 20, 2000.

In accordance with the National Environmental Policy Act of 1969 and the Federal Energy Regulatory Commission's (Commission) regulations, 18 CFR Part 380 (Order No. 486, 52 FR 47897), the Office of Energy Projects has prepared a final environmental assessment (FEA). The FEA was prepared in support of Commission action on a proposed license amendment for the El Dorado Project. The proposed amendment would allow the reconstruction of the project's diversion dam and construction of a two-mile-long tunnel to bypass a section of the project's canal that is damaged and/or situated on unstable slopes. The FEA finds that approval of the proposed amendment, with staff's recommended mitigation measures, would not constitute a major federal action significantly affecting the quality of the human environment. The El Dorado Project is located on the South Fork of the American River, in El Dorado, Amador, and Alpine counties, California.

On March 24, 2000 the Commission staff issued a draft environmental assessment (DEA) for the project, and requested that comments be filed with the Commission within 45 days. Comments were filed by six entities and are addressed in the FEA for the project.

The FEA was written by staff in the Office of Energy Projects, Federal Energy Regulatory Commission. Copies of the DEA and FEA can be viewed at the Commission's Reference and Information Center, Room 2A, 888 First Street, N.E., Washington, D.C. 20426, or by calling 202-208-1371. The document can be viewed on the web at http://rimsweb1.ferc.fed.us/rims (call 202-208-2222 for assistance). Copies also can be obtained by calling the project manager, John Mudre, at (202) 219-1208.

David P. Boergers,
Secretary.

[FR Doc. 00-18876 Filed 7-25-00; 8:45 am]

BILLING CODE 6717-01-M